INTERNATIONAL TRADE COMMISSION

[Investigation Nos. 701-TA-388, 389, and 391 and 731-TA-817, 818, and 821 (Third Review)]

Cut-to-Length Carbon-Quality Steel Plate From India, Indonesia, and Korea; Determinations

On the basis of the record ¹ developed in the subject five-year reviews, the United States International Trade Commission (“Commission”) determines, pursuant to the Tariff Act of 1930 (“the Act”), that revocation of the countervailing duty orders and antidumping duty orders on cut-to-length carbon-quality steel plate from India, Indonesia, and Korea would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on December 1, 2016 (81 FR 86725) and determined on March 6, 2017 that it would conduct full reviews (82 FR 14030, March 16, 2017). Notice of the scheduling of the Commission's reviews and of a public hearing to be held in connection therewith was given by posting copies of the notice in the Office of the Secretary, U.S. International Trade Commission, Washington, DC, and by publishing the notice in the Federal Register on August 10, 2017 (82 FR 37465). A revised schedule of the Commission's reviews was published on October 27, 2017 (82 FR 49849). The hearing was held in Washington, DC, on January 4, 2018, and all persons who requested the opportunity were permitted to appear in person or by counsel.

The Commission made these determinations pursuant to section 751(c) of the Act (19 U.S.C. 1675(c)). It completed and filed its determinations in these reviews on February 26, 2018. The views of the Commission are contained in USITC Publication 4764 (February 2018), entitled Cut-to-Length Carbon-Quality Steel Plate from India, Indonesia and Korea: Investigation Nos. 701-TA-388, 389, and 391 and 731-TA-817, 818, and 821 (Third Review).

By order of the Commission.
Issued: February 26, 2018.
Lisa R. Barton,
Secretary to the Commission.

[FR Doc. 2018-04227 Filed 3-1-18; 8:45 am]

BILLING CODE 7020-02-P